DEPARTMENT OF JUSTICE

Notice of Lodging of Consent Decree Pursuant to the Oil Pollution Act of 1990

In accordance with Departmental policy, notice is hereby given that a proposed Consent Decree in United States v. Texas Petrochemicals Corporation, Civil Action H-00-3555, was lodged on December 11, 2001, with the United States District Court for the Southern District of Texas.

In this action the United States sued Texas Petrochemicals Corporation pursuant to section 113 of the Clean Air Act (“CAA”), 42 U.S.C. 7413, for TPC's violations of the Standards of Performance for New Stationary Sources (“NSPS”), 40 CFR part 60, subparts A and Db, the National Emission Standards for Hazardous Air Pollutants (“NESHAP”), 40 CFR part 63, subparts G and H; the National Emissions Standards for Hazardous Air Pollutants for Source Categories, 40 CFR part 61, subpart M, relating to asbestos (“asbestos NESHAP”), and for violations of the Texas Air Quality Control Regulations, 30 TAC §§ 115.10-149, at its chemical manufacturing facility in Houston, Texas. The Consent Decree provides for TPC's payment of a civil penalty to the United States in the amount of $113,750 dollars, and requires TPC to bring its facility into compliance with the Texas Air Quality Control Regulations, by installing control equipment consisting of internal floating roofs on Tanks 77, 78 and 79.

The Department of Justice will receive, for a period of thirty (30) days from the date of this publication, comments relating to the proposed Consent Decree. Comments should be addressed to Thomas L. Sansonetti, Assistant Attorney General for the Environment and Natural Resources Division, PO Box 7611, United States Department of Justice, Washington, DC 20044-7611, and should refer to United States v. Texas Petrochemical Corporation, DOJ Ref. #90-5-2-1-06816.

The proposed Consent Decree may be examined at the office of the United States Attorney, Southern District of Texas, 911 Travis Street, Suite 1500, Houston, Texas 77208; and the Region VI Office of the Environmental Protection Agency, 1445 Ross Avenue, Dallas, Texas. A copy of the Consent Decree may also be obtained by mail from the Consent Decree Library, PO Box 7611, United States Department of Justice, Washington, DC 20044-7611. In requesting a copy please refer to the referenced case and enclose a check in the amount of $4.00 (25 cents per page reproduction costs), payable to the Consent Decree Library.

Catherine R. McCabe,
Deputy Chief, Environmental Enforcement Section, Environment and Natural Resources Division.

[FR Doc. 02-5756 Filed 3-8-02; 8:45 am]

BILLING CODE 4410-15-M